DEPARTMENT OF AGRICULTURE

Agricultural Marketing Service

7 CFR Part 1217

[Document Number AMS-FV-10-0015C; FR]

RIN 0581-AD03

Softwood Lumber Research, Promotion, Consumer Education and Industry Information Order; Correction

AGENCY: Agricultural Marketing Service.

ACTION: Corrections to final rule.

SUMMARY: This document contains corrections to the final rule published on August 2, 2011 (76 FR 46185), regarding softwood lumber. Corrections are made in the amendatory instruction section and in § 1217.88 of the final rule.

DATES: Effective Date: August 31, 2011.

FOR FURTHER INFORMATION CONTACT: Maureen T. Pello, Marketing Specialist, Research and Promotion Division, Fruit and Vegetable Programs, AMS, USDA, P.O. Box 831, Beavercreek, Oregon 97004; telephone: (503) 632-8848; facsimile (503) 632-8852; or electronic mail: Maureen.Pello@ams.usda.gov.

SUPPLEMENTARY INFORMATION:

Background

This rule establishes a Softwood Lumber Research, Promotion, Consumer Education and Industry Information Order (Order). The purpose of the Order is to strengthen the position of softwood lumber in the marketplace, maintain and expand markets for softwood lumber, and develop new uses for softwood lumber within the United States. The Order is issued pursuant to the Commodity Promotion, Research, and Information Act of 1996 (7 U.S.C. 7411-7425).

Corrections

In FR Doc. 2011-19491, published August 2, 2011 (76 FR 46185), make the following corrections.

1. On page 46193, in column 2, the words of issuance are corrected to read as follows:

For the reasons set forth in the preamble, Title 7, Chapter XI of the Code of Federal Regulations is amended by adding subpart A to part 1217 to read as follows:

2. On page 46194, column 1, the words “Subpart B—[Reserved]” are removed.

3. On page 46202 in column 1, § 1217.88 is revised to read as follows:

§ 1217.88 OMB Control numbers.

The control numbers assigned to the information collection requirements by the Office of Management and Budget pursuant to the Paperwork Reduction Act of 1995, 44 U.S.C. Chapter 35, are OMB control number 0505-0001 (Board nominee background statement) and OMB control number 0581-0264.

Dated: August 22, 2011.
David R. Shipman,
Acting Administrator.

[FR Doc. 2011-22150 Filed 8-29-11; 8:45 am]

BILLING CODE 3410-02-P